DEPARTMENT OF HEALTH AND HUMAN SERVICES

Agency for Healthcare Research and Quality

Supplemental Evidence and Data Request on Healthcare Industry Waste and Lifecycle Assessment

AGENCY: Agency for Healthcare Research and Quality (AHRQ), HHS.

ACTION: Request for supplemental evidence and data submissions.

SUMMARY: The Agency for Healthcare Research and Quality (AHRQ) is seeking scientific information submissions from the public. Scientific information is being solicited to inform our review on Healthcare Industry Waste and Lifecycle Assessment, which is currently being conducted by the AHRQ's Evidence-based Practice Centers (EPC) Program. Access to published and unpublished pertinent scientific information will improve the quality of this review.

DATES: Submission Deadline on or before October 30, 2023.

ADDRESSES:

Email submissions: epc@ahrq.hhs.gov.

Print submissions:

Mailing Address: Center for Evidence and Practice Improvement, Agency for Healthcare Research and Quality, ATTN: EPC SEADs Coordinator, 5600 Fishers Lane, Mail Stop 06E53A, Rockville, MD 20857.

Shipping Address (FedEx, UPS, etc.): Center for Evidence and Practice Improvement, Agency for Healthcare Research and Quality, ATTN: EPC SEADs Coordinator, 5600 Fishers Lane, Mail Stop 06E77D, Rockville, MD 20857.

FOR FURTHER INFORMATION CONTACT: Kelly Carper, Telephone: 301-427-1656 or Email: epc@ahrq.hhs.gov.

SUPPLEMENTARY INFORMATION: The Agency for Healthcare Research and Quality has commissioned the Evidence-based Practice Centers (EPC) Program to complete a review of the evidence for Healthcare Industry Waste and Lifecycle Assessment. AHRQ is conducting this review pursuant to section 902 of the Public Health Service Act, 42 U.S.C. 299a.

The EPC Program is dedicated to identifying as many studies as possible that are relevant to the questions for each of its reviews. In order to do so, we are supplementing the usual manual and electronic database searches of the literature by requesting information from the public (e.g., details of studies conducted). We are looking for studies that report on Healthcare Industry Waste and Lifecycle Assessment. The entire research protocol is available online at: https://effectivehealthcare.ahrq.gov/products/lifecycle-assessment.

This is to notify the public that the EPC Program would find the following information on Healthcare Industry Waste and Lifecycle Assessment helpful:

A list of completed studies that your organization has sponsored for this topic. In the list, please indicate whether results are available on ClinicalTrials.gov along with the ClinicalTrials.gov trial number.

For completed studies that do not have results on ClinicalTrials.gov, a summary, including the following elements, if relevant: study number, study period, design, methodology, indication and diagnosis, proper use instructions, inclusion and exclusion criteria, primary and secondary outcomes, baseline characteristics, number of patients screened/eligible/enrolled/lost to follow-up/withdrawn/analyzed, effectiveness/efficacy, and safety results.

A list of ongoing studies that your organization has sponsored for this topic. In the list, please provide the ClinicalTrials.gov trial number or, if the trial is not registered, the protocol for the study including, if relevant, a study number, the study period, design, methodology, indication and diagnosis, proper use instructions, inclusion and exclusion criteria, and primary and secondary outcomes.

Description of whether the above studies constitute ALL Phase II and above clinical trials sponsored by your organization for this topic and an index outlining the relevant information in each submitted file.

Your contribution is very beneficial to the Program. Materials submitted must be publicly available or able to be made public. Materials that are considered confidential; marketing materials; study types not included in the review; or information on topics not included in the review cannot be used by the EPC Program. This is a voluntary request for information, and all costs for complying with this request must be borne by the submitter.

The draft of this review will be posted on AHRQ's EPC Program website and available for public comment for a period of 4 weeks. If you would like to be notified when the draft is posted, please sign up for the email list at: https://www.effectivehealthcare.ahrq.gov/email-updates.

The review will answer the following questions. This information is provided as background. AHRQ is not requesting that the public provide answers to these questions.

Guiding Questions (GQ)

GQ1. Frameworks for Life Cycle Assessment (LCA)

• What LCA frameworks have been developed or adapted for healthcare settings, products, and procedures?

i. What data sources, measures/indicators, and methods are used to inform these frameworks?

ii. Which components of the frameworks are thought to have the greatest association with carbon footprint?

iii. What limitations of these frameworks have been described?

GQ2. Studies of LCA

• How are LCAs applied in healthcare research?

i. What topic areas have been studied and for what settings?

ii. What data sources, measures/indicators, and methods were used in the analysis?

iii. What outcomes have been studied, and what were the findings?

iv. What were cited limitations of the research?

GQ3. Gaps in the Knowledge and Future Research Needs

• Are there frameworks that are being developed or have been developed but not yet implemented?

• What are possible areas of future research?

Criteria for Inclusion/Exclusion of Studies in the Review
Domain | Inclusion | Exclusion
Population | • GQ1: Publications that include a figure or detailed description of a life cycle assessment framework • GQ2: Publications that describe the methods and results of a life cycle assessment study • GQ3: Registered research of life cycle framework development or assessment | • Publications citing existing frameworks without further conceptual contribution to the framework and publications describing only the need or future plans of conducting a life cycle assessment.
Concept | Life cycle assessments that address either scope 1, scope 2, scope 3 emissions. Scope 1: Direct emissions (facilities, anesthetics, fleet and leased vehicles), Scope 2: Indirect emissions (electricity, stream). Scope 3: Other indirect emissions (food and catering, business services, medical devices, medicines, water, metered-dose inhalers, energy [well-to-tank], business travel [public transit, gray fleet], staff commuting, manufacturing [products, chemicals, gases], waste, information technology, Health Care Organization (HCO) investments, construction, and freight transport) • GQ1: Frameworks for life cycle assessments, including logic models, analytic frameworks, or other conceptualization • GQ2: Published life cycle assessments, life cycle assessments do not need to meet ISO (International Organization for Standardization) 14040 standards but need to describe a goal, scope, and boundaries; assessment can describe partials or full cradle to grave cycles • GQ3: Ongoing research, development of frameworks and assessments | • Frameworks, assessments, ongoing research not including life cycle assessments.
Context | • Healthcare: healthcare delivery organizations, health insurance, or manufacturers/suppliers that directly contribute to the delivery of healthcare (e.g., supply of personal protective equipment) including scope 1, scope 2, and scope 3 emissions | • Studies in contexts not specific to healthcare.
Other limiter | • Information published in English-language journal manuscripts, trial records, and gray literature in the public domain from the outlined sources | • Data reported in abbreviated format (e.g., conference abstracts) will be excluded; systematic reviews will be retained for reference mining.

Abbreviations: GQ guiding questions; HCO health care organization; ISO International Standards Organization.

Dated: September 26, 2023.
Marquita Cullom,
Associate Director.

[FR Doc. 2023-21481 Filed 9-28-23; 8:45 am]

BILLING CODE 4160-90-P